DEPARTMENT OF HEALTH AND HUMAN SERVICES

Food and Drug Administration

[Docket No. FDA-2010-N-0268]

Dental Products Panel of the Medical Devices Advisory Committee; Amendment of Notice

AGENCY: Food and Drug Administration, HHS.

ACTION: Notice.

The Food and Drug Administration (FDA) is announcing an amendment to the notice of meeting of the Dental Products Panel of the Medical Devices Advisory Committee. This meeting was announced in the Federal Register of June 11, 2010 (75 FR 33315). The amendment is being made to reflect a change in the Agenda portion of the document. There are no other changes.

FOR FURTHER INFORMATION CONTACT: Olga I. Claudio, Food and Drug Administration, Center for Devices and Radiological Health, 10903 New Hampshire Ave., Bldg. 66, rm. 1553, Silver Spring, MD 20993-0002, 301-796-7608, or FDA Advisory Committee Information Line, 1-800-741-8138 (301-443-0572 in the Washington DC area), code 3014512518. Please call the Information Line for up-to-date information on this meeting.

SUPPLEMENTARY INFORMATION: In the Federal Register of June 11, 2010, FDA announced that a meeting of the Dental Products Panel of the Medical Devices Advisory Committee would be held on December 14 and 15, 2010. On page 33316, in the first column, in the Agenda portion of the document, in the second full paragraph, in the second sentence, the phrase “(docket numbers FDA-2008-N-0163 and FDA-2009-P-0357)” is changed to read as follows:

“(docket numbers FDA-2008-N-0163, FDA-2009-P-0357, and FDA-2010-P-0056-0001)”

This notice is issued under the Federal Advisory Committee Act (5 U.S.C. app. 2) and 21 CFR part 14, relating to the advisory committees.

Dated: September 21, 2010.
Jill Hartzler Warner,
Acting Associate Commissioner for Special Medical Programs.

[FR Doc. 2010-23914 Filed 9-23-10; 8:45 am]

BILLING CODE 4160-01-S